DEPARTMENT OF EDUCATION

National Assessment Governing Board; Meeting

AGENCY: National Assessment Governing Board; Education

ACTION: Notice of open meeting and partially closed meetings.

SUMMARY: The notice sets for the schedule and proposed agenda of a forthcoming meeting of the National Assessment Governing Board. This notice also describes the functions of the Board. Notice of this meeting is required under section 10(a)(2) of the Federal Advisory committee Act. This document is intended to notify members of the general public of their opportunity to attend. Individuals who will need special accommodations in order to attend the meeting (i.e., interpreting services, assistive listening devices, materials in alternative format) should notify Munira Mwalimu at 202-357-6938 or at Munira.Mwalimu@ed.gov no later than April 30, 2004. We will attempt to meet requests after this date, but cannot guarantee availability of the requested accommodation. The meeting site is accessible to individuals with disabilities.

DATES: May 13-May 15, 2004.

Times

May 13

Committee Meetings:

Ad Hoc Committee on NAEP 12th Grade Participation and Motivation: Open session—12:30 p.m. to 4 p.m.

Executive Committee: Open session—4:30 p.m. to 5 p.m.; closed session—5 p.m. to 6 p.m.

May 14

Full Board: Open session—8 a.m. to 10:15 a.m.

Committee Meetings:

Assessment Development Committee: Open session—10:15 a.m. to 12:30 p.m.

Committee on Standards, Design, and Methodology: Open session—10:15 am. to 12:30 p.m.

Full Board: Closed session—12:30 p.m. to1:30 p.m.; open session—1:30 p.m. to 4:30 p.m.

May 15

Nominations Committee: Closed session—7:45 a.m. to 8:45 a.m.

Full Board: Open session—9 a.m. to 12 p.m.

Location: Hyatt Regency Denver, 1750 Welton Street, Denver, CO 80202.

FOR FURTHER INFORMATION CONTACT: Munira Mwalimu, Operations Officer, National Assessment Governing Board, 800 North Capitol Street, NW., Suite 825, Washington, DC, 2002-4233, telephone: (202) 357-6938.

SUPPLEMENTARY INFORMATION: The National Assessment Governing Board is established under section 412 of the National Education Statistics Act of 1994, as amended.

The Board is established to formulate policy guidelines for the National Assessment of Educational Progress (NAEP). The Board's responsibilities include selecting subject areas to be assessed, developing assessment objectives, developing appropriate student achievement levels for each grade and subject tested, developing guidelines for reporting and disseminating results, and developing standards and procedures for interstate and national comparisons.

On May 13, the Ad Hoc Committee on NAEP 12th Grade Participation and Motivation will meet in open session from 12:30 p.m. to 4 p.m. The Executive Committee will meet in open session on May 13 from 4:30 p.m. to 5 p.m. The committee will then meet in closed session from 5 p.m. to 6 p.m. to discuss independent cost estimates for contracts related to the National Assessment of Educational Progress (NAEP). This part of the meeting must be conducted in closed session because public disclosure of this information would likely have an adverse financial effect on the NAEP program. The discussion of this information would be likely to significantly impede implementation of a proposed agency action if conducted in open session. Such matters are protected by exemption 9(B) of section 552b(c) of title 5 U.S.C.

On May 14, the full Board will meet in open session from 8 a.m. to 10:15 a.m. The Board will approve the agenda, hear the Executive Director's report; receive an update on the work of the National Center for Education Statistics (NCES) from the Commissioner of NCES, Robert Lerner; and hear a report on issues and options for the NAEP 12th Grade World History Assessment.

From 10:15 a.m. to 12:30 p.m. on May 14, the Board's standing committees—the Assessment Development Committee; the Committee on Standards, Design, and Methodology; and the Reporting and Dissemination Committee—will meet in open session.

The full Board will meet in closed session on May 14, 2004, from 12:30 p.m. to 1:30 p.m. to receive a report on the NAEP 2002 Special Study of Oral Reading at Grade 4. This part of the meeting must be conducted in closed session because the results of this study are under development and have not been released to the public. Premature disclosure of the information would significantly frustrate implementation of a proposed agency action if conducted in open session. Such matters are protected by exemption 9(B) of section 552b(c) of title 5 U.S.C.

The full Board will meet in open session on May 14 from 1:30 p.m.-4:30 p.m. At 1:30 p.m., the Board will discuss the NAEP 2009 Draft Reading Framework. This will be followed by a report to the Board from Charles Smith, Executive Director, NAGB, on NAEP Inclusion and Accommodation Issues from 3:15 p.m. to 4:30 p.m., after which the May 14 session of the Board meeting will adjourn.

On May 15, the Nominations Committee will meet in closed session from 7:45 a.m. to 8:45 a.m. to review nominations for Board membership. This discussion pertains solely to internal personnel rules and practices of an agency and will disclose information of a personal nature where disclosure would constitute an unwarranted invasion of personal privacy. As such, the discussions are protected by exemptions 2 and 6 of section 552b(c) of title 5 U.S.C.

Thereafter, the full Board will meet in open session from 9 a.m. to 12 p.m. The Board will discuss the recommendations of the NAEP 12th Grade Commission from 9 a.m. to 10:30 a.m. Board actions on policies and Committee reports are scheduled to take place between 10:30 a.m. and 12 p.m., when the May 15, 2004, session of the Board meeting will adjourn.

A final agenda of the May 13-15, 2004 Board meeting can be accessed after May 3, 2004, at www.nagb.org. Detailed minutes of the meeting, including summaries of the activities of the closed sessions and related matters that are informative to the public and consistent with the policy of section 5 U.S.C. 552b(c) will be available to the public within 14 days of the meeting. Records are kept of all Board proceedings and are available for public inspection at the U.S. Department of Education, National Assessment Governing Board, Suite #825, 800 North Capitol Street, NW., Washington, DC, from 9 a.m. to 5 p.m. eastern standard time.

Dated: April 21, 2004.
Sharif Shakrani,
Deputy Executive Director, National Assessment Governing Board.

[FR Doc. 04-9356 Filed 4-23-04; 8:45 am]

BILLING CODE 4000-01-M